GENERAL SERVICES ADMINISTRATION

41 CFR Part 102-38

[FPMR Amendment H-211 and FMR Amendment B-3]

RIN 3090-AH10

Federal Management Regulation; Sale of Personal Property

Correction

In rule document 03-21485 beginning on page 51420 in the issue of Tuesday, August 26, 2003, make the following corrections:

1. On page 51420, in the first column, under the heading for further information contact, in the last line, “PMR H-211” should read, “FPMR H-211”.

PART 102-38—[CORRECTED]

2. On page 51422, in the second column, in the table of contents, the heading “Subpart D—Completion of Sale Awards” should read, “Subpart D—Completion of Sale”.

3. On the same page, in the same column, add the following undesignated center heading directly under the subpart heading:

“Awards”.

§ 102-38.175 [Corrected]

4. On page 51425, in the second column, in § 102-38.175, in the section heading, in the third line, “debarred From” should read, “debarred from”.

5. On the same page, in the same column, in the same section, in the second line, “From Federal Procurement” should read, “from Federal Procurement”.

§ 102-38.325 [Corrected]

6. On page 51427, in the second column, in § 102-38.325, the section should be combined into one paragraph.

[FR Doc. C3-21485 Filed 9-8-03; 8:45 am]

BILLING CODE 1505-01-D

SOCIAL SECURITY ADMINISTRATION

20 CFR Part 416

[Regulation No. 16]

RIN 0960-AF37

Clarification of Rules Involving Residual Functional Capacity Assessments; Clarification of Use of Vocational Experts and Other Sources at Step 4 of the Sequential Evaluation Process; Incorporation of “Special Profile” Into Regulations

Correction

In rule document 03-21610 beginning on page 51153 in the issue of Tuesday, August 26, 2003, make the following correction:

§416.994 [Corrected]

On page 51167, in the first column, in §416.994(b)(5)(vi) in the first line, “ÿ7Eyour impairment(s)” should read “ÿ7EIf your impairment(s).”

[FR Doc. C3-21610 Filed 9-8-03; 8:45 am]

BILLING CODE 1505-01-D

DEPARTMENT OF THE TREASURY

Internal Revenue Service

26 CFR Part 1

[TD 9063]

RIN 1545-BB99

Distributions of Interests in a Loss Corporation From Qualified Trusts

Correction

In rule document 03-16229 beginning on page 38177 in the issue of Friday, June 27, 2003 make the following corrections:

1. On page 38178, in the second column, under the heading “Amendments to the Regulations”, remove the third and fourth lines.

§1.382-1 [Corrected]

2. On the same page, in the same column, in §1.382-1, the regulatory material following Par. 2 should read as follows:

§ 1.382-1 Table of contents.

* * * * *

§ 1.382-10T Special rules for determining time and manner of acquisition of an interest in a loss corporation (temporary).

* * * * *

§ 1.382-10T [Corrected]

3. On the same page, in the third columnthe section heading number should read “§ 1.382-10T”.

[FR Doc. C3-16229 Filed 9-8-03; 8:45 am]

BILLING CODE 1505-01-D